NATIONAL AERONAUTICS AND SPACE ADMINISTRATION

[Notice (06-003)]

Aerospace Safety Advisory Panel Meeting

AGENCY: National Aeronautics and Space Administration.

ACTION: Notice of meeting.

SUMMARY: In accordance with the Federal Advisory Committee Act, Public Law 92-463, as amended, the National Aeronautics and Space Administration announces a forthcoming meeting of the Aerospace Safety Advisory Panel.

DATES:

1. Thursday, February 2, 2006, 1 p.m. to 2 p.m. Central Time. (Briefing, Teleconference).

2. Friday, February 3, 2006, 8 a.m. to 9 a.m. Central Time. (Briefing, Teleconference).

3. Friday, February 3, 2006, 10 a.m. to 12 p.m. Central Time. (ASAP Public Meeting).

ADDRESSES:

1. Marshall Space Flight Center, 4200 Room P110, Huntsville, AL (Briefings 1 and 2).

2. Marshall Institute Educator Resource Center at the U. S. Space and Rocket Center, Auditorium/Room 105, One Tranquility Base, Huntsville, AL 35805. (ASAP Public Meeting).

FOR FURTHER INFORMATION CONTACT: Mr. John D. Marinaro, Aerospace Safety Advisory Panel Executive Director, National Aeronautics and Space Administration, Washington, DC 20546, (202) 358-0914.

SUPPLEMENTARY INFORMATION: The Aerospace Safety Advisory Panel will receive two status briefings and hold its Quarterly Meeting on February 2 and 3, respectively. This discussion is pursuant to carrying out its statutory duties for which the Panel reviews, identifies, evaluates, and advises on those program activities, systems, procedures, and management activities that can contribute to program risk. Priority is given to those programs that involve the safety of human flight. The major subjects covered will be NASA organizational areas of interest as they relate to safety. The Aerospace Safety Advisory Panel is composed of nine members.

The two briefings will cover the following topics:

1. STS-121 (Shuttle Transport System) Return to Flight Activities Teleconference phone number: 888-455-3612. Passcode: ASAP.

2. NASA Crew Launch Vehicle (CLV) Teleconference phone number: 888-455-3612. Passcode: ASAP.

The following two Status Briefings will be given to the Panel and open to the public, via teleconference, up to the capacity of the phone bridge (25). The Public Meeting will be held at the Marshall Institute Educator Resource Center and open to the public up to the seating capacity of the room (128). Teleconference access and seating will be on a first-come, first-serve basis. Please contact Ms. Susan Burch at Susan.Burch@nasa.gov or by telephone at (202) 358-0914 by January 30 to reserve a seat. Visitors will be requested to sign a visitor's register. Photographs will only be permitted during the first 10 minutes of the meeting. During the first 30 minutes of the Public Meeting, members of the public may make a 5-minute verbal presentation to the Panel on the subject of safety in NASA. To do so, please contact Ms. Susan Burch at (202) 358-0914 at least 24 hours in advance. Any member of the public is permitted to file a written statement with the Panel at the time of the meeting. Verbal presentations and written comments should be limited to the subject of safety in NASA. Rationale for this notice being posted less than 15 days prior to the meeting is due to the scheduling difficulties of the meeting venue and Panel member availability.

P. Diane Rausch,
Advisory Committee Management Officer, National Aeronautics and Space Administration.

[FR Doc. E6-581 Filed 1-18-06; 8:45 am]

BILLING CODE 7510-13-P